DEPARTMENT OF AGRICULTURE

Agricultural Marketing Service

[Doc. No. AMS-FGIS-24-0028]

Certification of Export Port Locations for Alabama and Washington and Geographic Areas Under the Delegated Authority of United States Grain Standards Act

AGENCY: Agricultural Marketing Service, USDA.

ACTION: Notice.

SUMMARY: The Agricultural Marketing Service (AMS) is announcing the certification of the Alabama Department of Agriculture and Industries and the Washington State Department of Agriculture to provide official inspection services at the export port locations listed in table 1, below, under the delegated authority of the United States Grain Standards Act (USGSA or Act), as amended. AMS is also announcing the designation of official agencies to provide official services (at other than export port locations) in the geographic areas listed in table 2, below.

FOR FURTHER INFORMATION CONTACT: Jennifer Weiland, Grain Marketing Specialist, Telephone 202-989-5995; Email: Jennifer.j.weiland@usda.gov or FGISQACD@usda.gov.

SUPPLEMENTARY INFORMATION:

I. Certification of Delegated State Agencies

This notice announces AMS's certification that the Alabama Department of Agriculture and Industries and the Washington State Department of Agriculture are meeting the criteria required to perform official services at export port locations in the States of Alabama and Washington, respectively. Section 7(e) of the USGSA (7 U.S.C. 79(e)) requires the Secretary of Agriculture (Secretary) to certify, every five years, that each State agency with a delegation of authority is meeting the criteria described in section 7(f)(1)(A) of the Act for carrying out inspections on behalf of the Secretary. Under the certification process prescribed by the statute, the Secretary must: (1) publish in the Federal Register a notice of intent to certify a State agency and provide a 30-day period for public comment; (2) evaluate the public comments received and, in accordance with section 7(e)(3) of the Act, conduct an investigation to determine whether the State agency is qualified; (3) make findings based on the public comments received and the investigation conducted; and (4) publish a notice in the Federal Register announcing whether the certification has been granted and describing the basis on which the Secretary made the decision.

For more information about the delegation and certification processes, please see 7 CFR 800.195. Table 1 provides relevant information about the delegations of authority to the Alabama and Washington State agencies to perform official services at export port locations.

Table 1—Delegated State Agencies Providing Services at Export Port Locations
State agency | Geographic area | Delegation: Area descriptions | Delegation: Starts | Delegation: Ends
Alabama Department of Agriculture and Industries, Montgomery, AL 251-331-1597 | Montgomery, AL | 88 FR 14593 (3/9/2023) | 1/1/2023 | 12/31/2027
Washington Department of Agriculture, Olympia, WA 360-902-1921 | Olympia, WA | 88 FR 14593 (3/9/2023) | 1/1/2023 | 12/31/2027

A. Alabama Department of Agriculture and Industries

AMS published a notice of intent to certify the Alabama Department of Agriculture and Industries and requested comments on the quality of services the State agency provided at export port locations in Alabama in the March 9, 2023 edition of the Federal Register (88 FR 14593). Comments were due 30 days after the date of publication. AMS did not receive any negative comments regarding the State agency's performance. AMS also considered internal feedback on agency performance in areas such as grading accuracy, equipment testing, equipment monitoring, and adherence to testing protocols required for mycotoxins and falling number values, among others. In addition, AMS conducted a compliance review of the State agency that evaluated its ability to provide timely, accurate, and non-discriminatory services, including timely and accurate issuance of certificates; implement a quality assurance program; conduct routine testing of equipment and scales; designate a qualified manager to oversee the execution of these required duties; and meet other requirements as specified in section 7(f)(1)(A) of the USGSA.

AMS also conducted an investigation to determine whether the Alabama State agency is qualified to perform inspections under section 7(e)(3) of the USGSA (7 U.S.C. 79(e)(3)). Pursuant to this section, AMS consulted with USDA's Office of Inspector General (OIG), the Department of Justice (DOJ), and the Government Accountability Office (GAO).¹ Neither the compliance review nor the consultations produced findings that would negatively impact the Alabama State agency's ability to perform official inspections at export port locations. Accordingly, AMS certifies that the Alabama Department of Agriculture and Industries is meeting the criteria required to perform official services at export port locations in Alabama.

¹ GAO advised that it does not have authority over State agencies and was unable to provide relevant information.

B. Washington State Department of Agriculture

AMS published a notice of intent to certify the Washington State Department of Agriculture and requested comments on the quality of services the State agency provided at export port locations in Washington in the March 9, 2023 edition of the Federal Register (88 FR 14593). Comments were due 30 days after the date of publication. AMS did not receive any negative comments regarding the State agency's performance. AMS also considered internal feedback on agency performance in areas such as grading accuracy, equipment testing, equipment monitoring, and adherence to testing protocols required for mycotoxins and falling number values, among others. Additionally, AMS conducted a compliance review of the State agency that evaluated its ability to provide timely, accurate, and non-discriminatory services, including timely and accurate issuance of certificates; implement a quality assurance program; conduct routine testing of equipment and scales; designate a qualified manager to oversee the execution of these required duties; and meet other requirements as specified in section 7(f)(1)(A) the USGSA.

AMS also conducted an investigation to determine whether the Washington State agency is qualified to perform inspections under section 7(e)(3) of the USGSA (7 U.S.C. 79(e)(3)). Pursuant to this section, AMS consulted with USDA's OIG, DOJ, and GAO. Neither the compliance review nor the consultations produced findings that would negatively impact the Washington State agency's ability to perform official inspections at export port locations. Accordingly, AMS certifies that the Washington State Department of Agriculture is meeting the criteria required to provide official services at export port locations in Washington.

II. Designation of Official Agencies

This notice announces AMS's designation and/or renewal of the designation of the official agencies listed in table 2, below, to provide official services at locations other than export port locations. Section 7(f) of the USGSA (7 U.S.C. 79(f)) authorizes the Secretary to designate a qualified applicant to provide official services in a specified area after determining that the applicant is better able than any other applicant to provide such official services. A designated agency may provide official inspection services and/or Class X or Class Y weighing services at locations other than export port locations. Under section 7(g) of the USGSA, designations of official agencies are effective for no longer than five years but may be renewed according to the criteria and procedures prescribed in section 7(f) of the Act. For more information about the designation and renewal processes, please see 7 CFR 800.196. To view the applications for these areas, please contact FGISQACD@usda.gov.

Table 2—Designated Official Agencies Providing Services at Other Than Export Ports
Official Agency | Geographic area | Delegation: Area descriptions | Delegation: Starts | Delegation: Ends
North Dakota Grain Inspection Services, Inc., Decatur, IN 701-293-7420 (NDGI) ² | Decatur, IN | See sec. II.B., below | 1/1/2021 | 12/31/2025
Plainview Grain Inspection and Weighing Service, Inc. Plainview, TX 806-293-1364 (Plainview) ³ | Plainview, TX | See sec II.A., below | 4/1/2022 | 3/31/2027
Montana Department of Agriculture Helena, MT 406-452-9567I (Montana) | Helena, MT | 86 FR 58247 (10/21/2021) | 7/1/2022 | 6/30/2027
Aberdeen Grain Inspection, Inc. Aberdeen, SD 605-225-8432 (Aberdeen) | Aberdeen, SD | 87 FR 51053 (8/19/2022) | 10/1/2022 | 9/30/2027
Hastings Grain Inspection, Inc. Hastings, NE 402-462-4254 (Hastings) | Hastings, NE | 87 FR 51053 (8/19/2022) | 10/1/2022 | 9/30/2027
Missouri Department of Agriculture Jefferson City, MO 573-751-5515 (Missouri) | Jefferson City, MO | 87 FR 51053 (8/19/2022) | 10/1/2022 | 9/30/2027
Alabama Department of Agriculture and Industries Montgomery, AL 251-331-1597 (Alabama) | Montgomery, AL | 87 FR 51053 (8/19/2022) | 1/1/2023 | 12/31/2027
Washington Department of Agriculture Olympia, WA 360-902-1921 (Washington) | Olympia, WA | 87 FR 51053 (8/19/2022) | 1/1/2023 | 12/31/2027
Kankakee Grain Inspection, Inc. Essex, IL 815-365-2268 (Kankakee) | Essex, IL | 87 FR 51053 (8/19/2022) | 1/1/2023 | 12/31/2027
Jamestown Grain Inspection, Inc., Jamestown, ND 701-252-1290 (Jamestown) | Jamestown, ND | 88 FR 19051 (3/30/2023) | 4/1/2023 | 3/31/2028
Lincoln Inspection Service, Inc. Lincoln, NE 402-435-4386 (Lincoln) | Lincoln, NE | 88 FR 19051 (3/30/2023) | 4/1/2023 | 3/31/2028
Midsouth Grain Inspection Service Memphis, TN 901-942-3216 (Midsouth) | Memphis, TN | 88 FR 19051 (3/30/2023) | 4/1/2023 | 3/31/2028
Kansas Grain Inspection Service, Inc. Topeka, KS 785-233-7063 (Kansas Grain) | Topeka, KS | 88 FR 19051 (3/30/2023) | 7/1/2023 | 6/30/2028
Mid-Iowa Grain Inspection, Inc. Cedar Rapids, IA 319-533-4666 (Mid-Iowa) | Cedar Rapids, IA | 88 FR 19051 (3/30/2023) | 7/1/2023 | 6/30/2028
Minot Grain Inspection, Inc. Minot, ND 701-838-1734 (Minot) | Minot, ND | 88 FR 19051 (3/30/2023) | 7/1/2023 | 6/30/2028
Tri-State Grain Inspection Service Inc., Cincinnati, OH 513-225-5095 (Tri-State) | Cincinnati, OH | 88 FR 19051 (3/30/2023) | 7/1/2023 | 6/30/2028
Grain Inspection Services of Texas LLC, Saginaw, TX 817-542-7338 (GIST) ⁴ | Saginaw, TX | See sec. II.A., below | 7/1/2024 | 6/30/2027

AMS requested comments on the services provided by the official agencies listed in table 2.⁵ AMS also sought applications from interested private and State entities to provide official inspection and weighing services in the listed geographic areas. The requests were published in the Federal Register, and each offered a 30-day comment period from the publication date. AMS did not receive any negative comments regarding the performance of the official agencies. Table 3, below, identifies the editions of the Federal Register in which AMS provided notice of the designation opportunities for the listed geographic areas and requested comments on the listed official agencies.

² The Decatur, Indiana area that was previously serviced by Northeast Indiana Grain Inspection, Inc. (NEIGI) is now serviced by North Dakota Grain Inspection Service, Inc. (NDGI), which was designated for other geographic areas in January 2021. Decatur, Indiana is a new geographic area for NDGI.

³ As of August 1, 2024, NDGI purchased the Detroit Grain Inspection Agency. NDGI requested transfer of that USGSA Geographic Area. FGIS approved the transfer and has updated the NDGI USGSA Designation documents in Appendix A.

⁴ The Central Texas area, which was previously an unassigned area, is now serviced by one current official agency, Plainview Grain Inspection and Weighing Service, Inc. (Plainview) and one new official agency, Grain Inspection Services of Texas, LLC (GIST), in separate parts within.

⁵ AMS did not request comments on the services provided by NDGI in Decatur, Indiana because NDGI had not previously provided services in that designation area.

Table 3—Federal Register Notices Announcing Opportunities for Geographic Areas and Requesting Comments
Official Agency | Geographic area | Federal Register
Montana | Helena, MT | 86 FR 58247 (October 21, 2021).
Aberdeen, Hastings, Missouri, Alabama, Kankakee, Washington | Aberdeen, SD; Hastings, NE; Jefferson City, MO; Montgomery, AL; Essex, IL; and Olympia, WA | 87 FR 51053 (August 19, 2022).
Jamestown, Lincoln, Midsouth, Kansas Grain, Mid-Iowa, Minot, Tri-State | Jamestown, ND; Lincoln, NE; Memphis, TN; Topeka; KS, Cedar Rapids, IA; Minot, ND; and Cincinnati, OH | 88 FR 19051 (March 30, 2023).
Plainview, GIST | Texas Central Area | 88 FR 19605 (April 3, 2023). 88 FR 78283 (November 15, 2023).
NDGI ⁶ | Decatur, IN | 88 FR 78283 (November 15, 2023).

AMS also considered internal feedback on agency performance in areas such as grading accuracy, equipment testing, equipment monitoring, and adherence to testing protocols required for mycotoxins and falling number values, among others. In addition to requesting external and internal feedback, AMS conducted compliance reviews to assess the performance of the designated agencies. As part of these reviews, AMS evaluated the agencies' past compliance and supervision audit results; quality program performance; stability, quality, and consistency of service; cooperation with FGIS; adequacy of resources; timely service and issuance of certificates; and cost of inspection services. If instances of noncompliance were found, agencies were required to correct the issues before their performance review was finalized. All the listed agencies performed well during their compliance reviews and were determined to be compliant with USGSA requirements.

⁶ See footnote 5.

The official agencies listed in tables 2 and 3 for the designation areas of Decatur, Indiana; Helena, Montana; Aberdeen, South Dakota; Hastings, Nebraska; Jefferson City, Missouri; Montgomery, Alabama; Olympia, Washington; Essex, Illinois; Jamestown, North Dakota; Lincoln, Nebraska; Memphis, Tennessee; Topeka, Kansas; Cedar Rapids, Iowa; Minot, North Dakota; and Cincinnati, Ohio were the only applicants for designation in those geographic areas. The only designation area for which more than one application was received is the Texas Central area, which is discussed in the next section.

A. Designation for the Texas Central Area

In the April 3, 2023, Federal Register (88 FR 19605), AMS requested comments about the need for USGSA inspection and weighing services in the Texas Central area as well applications for designation to provide official services in that area. AMS received designation applications from Plainview Grain Inspection and Weighing Service, Inc. (Plainview) and Grain Inspection Services of Texas (GIST). Plainview applied for designation for eight of the 149 counties and GIST applied for the entire 149-county area. Plainview is currently a designated official agency in good standing with AMS and the industry, and GIST is a new entity requesting designation.

In analyzing applications for the Texas Central geographic area, AMS evaluated applicants against the designation criteria in Section 7(f) of the USGSA (7 U.S.C. 79(f)), the recent audit report for Plainview detailing the applicant's performance of the designation criteria, customers' experience with the official service provider, public comments received related to the designation opportunity notice, current service agreements, and details provided in the application. Applications generally include information on an applicant's business plan to service the area, active licenses and service availability, fees, overall service costs, and proximity to customers and facilities. Plainview meets the designation criteria established under the USGSA and is operating with comparable costs for most service requests. GIST is a new entity and first-time applicant that demonstrates the ability to meet the designation criteria. In consideration of these factors, AMS determined that awarding eight counties to Plainview and the remaining 141 counties to GIST is the best manner in which to continue servicing the area. As such, the description of Plainview's designation area is amended. The new areas allow for an expansion of Plainview's geographic area without overlapping boundaries or isolating customers or areas within another official service provider's geographic area. GIST will be awarded a newly defined geographic area.

The Texas Central counties awarded to Plainview and GIST are listed below and will be reflected in their respective designation Appendix A documents:

Plainview—Coke, Coleman, Ector, Glasscock, Midland, Runnels, Sterling, and Winkler. GIST—Anderson, Angelina, Atascosa, Austin, Bandera, Bastrop, Bell, Bexar, Blanco, Bosque, Brazos, Brewster, Brown, Burleson, Burnet, Caldwell, Camp, Cherokee, Collin, Comal, Comanche, Concho, Cooke, Coryell, Crane, Crockett, Culberson, Dallas, Delta, Denton, DeWitt, Eastland, Edwards, Ellis, El Paso, Erath, Falls, Fannin, Fayette, Franklin, Freestone, Frio, Gillespie, Gonzales, Grayson, Gregg, Grimes, Guadalupe, Hamilton, Hardin, Harrison, Hays, Henderson, Hill, Hood, Hopkins, Houston, Hudspeth, Hunt, Irion, Jack, Jasper, Jeff Davis, Johnson, Karnes, Kaufman, Kendall, Kerr, Kimble, Kinney, Lamar, Lampasas, Lavaca, Lee, Leon, Liberty, Limestone, Llano, Loving, McCulloch, McLennan, Madison, Marion, Mason, Maverick, Medina, Menard, Milam, Mills, Montague, Montgomery, Morris, Nacogdoches, Navarro, Newton, Orange, Palo Pinto, Panola, Parker, Pecos, Polk, Presidio, Rans, Reagan, Real, Red River, Reeves, Robertson, Rockwall, Rusk, Sabine, San Augustine, San Jacinto, San Saba, Schleicher, Shelby, Smith, Somervell, Stephens, Sutton, Tarrant, Terrell, Titus, Tom Green, Travis, Trinity, Tyler, Upshur, Upton, Uvalde, Val Verde, Van Zandt, Walker, Ward, Washington, Williamson, Wilson, Wise, Wood, Young, and Zavala.

B. Designation for the Decatur, Indiana Area

In the November 15, 2023 edition of the Federal Register (88 FR 78283), AMS requested applications for designation to provide official services in the Decatur, Indiana geographic area previously serviced by Northeast Indiana Grain Inspection, Inc. AMS awarded the entire geographic area to NDGI, the sole applicant for the Decatur, IN geographic area. NDGI's Designation Appendix A documents have been updated to reflect the addition of the Decatur area described below.

In Indiana:

Bounded on the north by the northern LaGrange and Steuben County lines; bounded on the east by the eastern Steuben, De Kalb, Allen, and Adams County lines; bounded on the south by the southern Adams and Wells County lines; and bounded on the west by the western Wells County line; the southern Huntington and Wabash County lines; the western Wabash County line north to State Route 114; State Route 114 northwest to State Route 19; State Route 19 north to Kosciusko County; the western and northern Kosciusko County lines; the western Noble and LaGrange County lines.

Authority: 7 U.S.C. 71-87k.

Melissa Bailey,
Associate Administrator, Agricultural Marketing Service.

[FR Doc. 2024-23448 Filed 10-9-24; 8:45 am]

BILLING CODE P